Memorandum of July 21, 2010

Delegation of Certain Functions Under Section 1264 of the Victims of Iranian Censorship Act (Public Law 111-84, Subtitle D of the National Defense Authorization Act for Fiscal Year 2010)

Memorandum for the Chairman of the Broadcasting Board of Governors [and] the Secretary of State

By the authority vested in me as President by the Constitution and the laws of the United States, including section 301 of title 3, United States Code, I hereby delegate to the Chairman of the Broadcasting Board of Governors, in coordination with the Secretary of State, the functions conferred upon the President by section 1264 of the Victims of Iranian Censorship Act (Public Law 111-84, subtitle D) to make the specified report to the Congress.

The Chairman of the Broadcasting Board of Governors is authorized and directed to publish this memorandum in the Federal Register.

THE WHITE HOUSE,

Washington, July 21, 2010

[FR Doc. 2010-18450

Filed 7-23-10; 11:15 am]

Billing code 8610-01-P